PENSION BENEFIT GUARANTY CORPORATION

Agency Information Collection Activities: Submission of Information Collection for OMB Review; Comment Request; Generic Clearance for the Collection of Qualitative Feedback on Agency Service Delivery

AGENCY: Pension Benefit Guaranty Corporation.

ACTION: Notice of request for extension of OMB approval.

SUMMARY: This collection of information was developed as part of a Federal Government-wide effort to streamline the process for seeking feedback from the public on service delivery. Pension Benefit Guaranty Corporation (“PBGC”) is requesting that the Office of Management and Budget (OMB) extend approval under the Paperwork Reduction Act of this collection of information on qualitative feedback on PBGC's service delivery (OMB Control Number 1212-0066; expires August 31, 2017). This notice informs the public of PBGC's request and solicits public comment on the collection of information.

DATES: Comments must be submitted by September 27, 2017.

ADDRESSES: Comments should be sent to the Office of Information and Regulatory Affairs, Office of Management and Budget, Attention: Desk Officer for Pension Benefit Guaranty Corporation, via electronic mail at OIRA_DOCKET@omb.eop.gov or by fax to (202) 395-6974.

A copy of the request (including the collection of information) will be posted at http://www.pbgc.gov/res/laws-andregulations/information-collectionsunder-omb-review.html. It may also be obtained without charge by writing to the Disclosure Division of the Office of the General Counsel of PBGC at the above address, faxing a request to 202-326-4042, or calling 202-326-4040 during normal business hours. TTY and TDD users may call the Federal relay service toll-free at 1 800-877-8339 and ask to be connected to 202-326-4040. The Disclosure Division will email, fax, or mail the request to you, as you request.

FOR FURTHER INFORMATION CONTACT: Jo Amato Burns (burns.jo.amato@pbgc.gov), Regulatory Affairs Division, Office of the General Counsel, Pension Benefit Guaranty Corporation, 1200 K Street NW., Washington, DC 20005-4026, 202 326-4400, extension 3072, or Deborah Chase Murphy (murphy.deborah@pbgc.gov), Assistant General Counsel, same address and phone number, extension 3451. TTY and TDD users may call the Federal relay service toll-free at 800-877-8339 and ask to be connected to 202-326-4400.

SUPPLEMENTARY INFORMATION:

Title: Generic Clearance for the Collection of Qualitative Feedback on Agency Service Delivery

Abstract: The information collection activity will gather qualitative customer and stakeholder feedback in an efficient, timely manner, in accordance with the Administration's commitment to improving service delivery. By qualitative feedback PBGC means information that provides useful insights on perceptions and opinions, but the information requests are not statistical surveys that yield quantitative results generalizable to the population of interest. Collections with such objectives require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study.

The feedback from this information collection will provide insights into customer or stakeholder perceptions, experiences and expectations, provide an early warning of issues with service, or focus attention on areas where communication, training or changes in operations might improve delivery of products or services. These collections will allow for ongoing, collaborative and actionable communications between PBGC and its customers and stakeholders. These collections also allow feedback to contribute directly to the improvement of program management.

The collection of information has been approved by OMB under control number 1212-0066 through August 31, 2017. PBGC is requesting that OMB extend approval of the information collection for another three years without change. An agency may not conduct or sponsor, and a person is not required to respond to, a collection of information unless it displays a currently valid OMB control number.

On June 21, 2017 (82 FR 28363), PBGC published a notice informing the public that it intended to request OMB approval and soliciting public comment. No comments were received.

Annually, over the next three years, PBGC estimates that it will conduct three activities involving about 1,630 respondents, each of whom will provide one response. The number of respondents will vary by activity: 40 for usability testing, 90 for focus groups (nine groups of ten respondents), and 1,500 for customer satisfaction surveys.

PBGC estimates the annual burden of this collection of information as 635 hours: 2 hours per response for usability testing (total 80 hours); 2 hours per response for focus groups (total 180 hours); and 15 minutes per response for customer satisfaction surveys (total 375 hours).

Issued in Washington DC by
Deborah Chase Murphy,
Assistant General Counsel for Regulatory Affairs, Pension Benefit Guaranty Corporation.

[FR Doc. 2017-18207 Filed 8-25-17; 8:45 am]

BILLING CODE 7709-02-P